INTERNATIONAL TRADE COMMISSION

[Investigation Nos. 701-TA-666 and 731-TA-1558 (Final)]

Walk-Behind Snow Throwers From China

Determinations

On the basis of the record ¹ developed in the subject investigations, the United States International Trade Commission (“Commission”) determines, pursuant to the Tariff Act of 1930 (“the Act”), that an industry in the United States is materially injured by reason of imports of walk-behind snow throwers from China, provided for in subheading 8430.20.00 of the Harmonized Tariff Schedule of the United States, that have been found by the U.S. Department of Commerce (“Commerce”) to be sold in the United States at less than fair value (“LTFV”), and to be subsidized by the government of China.²

¹ The record is defined in § 207.2(f) of the Commission's Rules of Practice and Procedure (19 CFR 207.2(f)).

² 87 FR 17984 (March 29, 2022); 87 FR 17987 (March 29, 2022).

Background

The Commission instituted these investigations effective March 30, 2021, following receipt of petitions filed with the Commission and Commerce by MTD Products Inc., Valley City, Ohio. The final phase of the investigations was scheduled by the Commission following notification of preliminary determinations by Commerce that imports of walk-behind snow throwers from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 5, 2021 (86 FR 69294). The Commission conducted its hearing on March 23, 3022. All persons who requested the opportunity were permitted to participate.

The Commission made these determinations pursuant to §§ 705(b) and 735(b) of the Act (19 U.S.C. 1671d(b) and 19 U.S.C. 1673d(b)). It completed and filed its determinations in these investigations on May 11, 2022. The views of the Commission are contained in USITC Publication 5322 (May 2022), entitled Walk-Behind Snow Throwers from China: Investigation Nos. 701-TA-666 and 731-TA-1558 (Final).

By order of the Commission.
Issued: May 11, 2022.
Lisa Barton,
Secretary to the Commission.

[FR Doc. 2022-10518 Filed 5-16-22; 8:45 am]

BILLING CODE 7020-02-P